DEPARTMENT OF HOMELAND SECURITY

Coast Guard

[Docket No. USCG-2010-0303]

National Maritime Security Advisory Committee; Vacancies

AGENCY: Coast Guard, DHS.

ACTION: Request for applications.

SUMMARY: The Coast Guard seeks applications for membership on the National Maritime Security Advisory Committee (NMSAC). This Committee advises and makes recommendations on national maritime security matters to the Secretary of Homeland Security via the Commandant of the United States Coast Guard.

DATES: Completed application forms should reach us on or before May 31, 2010.

ADDRESSES: Interested candidates may request an application form by one of the following methods:

• E-mail: NMSAC@uscg.mil, Subject line: NMSAC Application Form Request.

• Fax: 202-372-1990, ATTN: NMSAC DFO/EA, please provide name, mailing address and telephone and fax numbers to send application forms to.

• Mail: Send written requests for forms and completed application packets to: USCG-NMSAC Designated Federal Officer, CG-5441, Room 5302, U.S. Coast Guard Headquarters, 2100 Second St., SW., Stop 7581, Washington, DC 20593-7581, please provide name, mailing address and telephone and fax numbers to send application forms to.

• Internet: To download a PDF or MS-Word application form visit NMSAC Web site at http://www.homeport.uscg.mil under Missions>Maritime Security>National Maritime Security Advisory Committee>Member Application Forms.

FOR FURTHER INFORMATION CONTACT: Mr. Ryan Owens, Commandant (CG-5441), NMSAC Assistant Designated Federal Officer, U.S. Coast Guard Headquarters, 2100 Second St., SW., Stop 7581, Washington, DC 20593-7581, ryan.f.owens@uscg.mil, Phone: 202-372-1108, Fax: 202-372-1990.

SUPPLEMENTARY INFORMATION: The NMSAC is an advisory committee established in accordance with the provisions of the Federal Advisory Committee Act (FACA) 5 U.S.C. (Pub. L. 92-463). The NMSAC advises, consults with, reports to, and makes recommendations to the Secretary on matters relating to national maritime security. Such matters may include, but are not limited to:

• Developing a national strategy and policy to provide for efficient, coordinated and effective action to deter and minimize damage from maritime transportation security incidents;

• Recommending actions required to meet current and future security threats to ports, vessels, facilities, waterways and their associated inter-modal transportation connections and critical infrastructure;

• Promoting international cooperation and multilateral solutions to maritime security issues;

• Addressing security issues and concerns brought to the Committee by segments of the marine transportation industry, or other port and waterway stakeholders, and;

• Examining such other matters, related to those listed above, that the Secretary may charge the Committee with addressing.

The full Committee normally meets at least two to three times per fiscal year. Working group meetings and teleconferences are held more frequently, as needed. It may also meet for extraordinary purposes.

We will consider applications for seven positions that expired or became vacant January 1, 2010. Current members are eligible to serve an additional term of office but must re-apply in accordance with this notice. Applicants with experience in one or more of the following sectors of the marine transportation industry with a minimum of five years experience in their field are encouraged to apply:

• Port Operations Management/Port Authorities.

• Maritime Security Operations and Training.

• Marine Salvage Operations.

• Maritime Security Related Academics/Public Policy.

• Marine Facilities and Terminals Security Management.

• Vessel Owners/Operators.

• Maritime Labor.

• International and Inter-modal Supply Chain.

• Maritime Hazardous Materials Handling/Shipping.

• State and Local Government (Homeland Security, Law Enforcement, First Response).

Registered lobbyists are not eligible to serve on Federal Advisory Committees. Registered lobbyists are lobbyists required to comply with provisions contained in the Lobbying Disclosure Act of 1995 (Pub. L. 110-81, as amended). Each member serves for a term of three years. Members may serve consecutive terms. All members serve at their own expense and receive no salary. While attending meetings or when otherwise engaged in committee business, members will be reimbursed for travel and per diem expenses as permitted under applicable Federal travel regulations.

In support of the policy of the Coast Guard on gender and ethnic nondiscrimination, we encourage qualified men and women and members of all racial and ethnic groups to apply. The Coast Guard values diversity; all the different characteristics and attributes of persons that enhance the mission of the Coast Guard.

If you are selected as a non-representative member, or as a member who represents the general public, you will be appointed and serve as a Special Government Employee (SGE) as defined in section 202(a) of title 18, United States Code. As a candidate for appointment as an SGE, applicants are required to complete a Confidential Financial Disclosure Report (OGE Form 450). A completed OGE Form 450 is not releasable to the public except under an order issued by a Federal court or as otherwise provided under the Privacy Act (5 U.S.C. 552a). Only the Designated Agency Ethics Official (DAEO) or the DAEO's designate may release a Confidential Financial Disclosure Report.

If you are interested in applying to become a member of the Committee, send a completed application to CAPT Kevin C. Kiefer, Designated Federal Officer (DFO) of the National Maritime Security Advisory Committee. Send the application in time for it to be received by the DFO on or before May 31, 2010.

A copy of the application form is available in the docket for this notice. To visit our online docket, go to http://www.regulations.gov, enter the docket number for this notice (USCG-2010-0303) in the Search box, and click “Go >>.”

Dated: April 21, 2010.
K.C. Kiefer,
Captain, U.S. Coast Guard, Office of Port and Facility Activities.

[FR Doc. 2010-9683 Filed 4-26-10; 8:45 am]

BILLING CODE 9110-04-P